DEPARTMENT OF HOUSING AND URBAN DEVELOPMENT

[Docket No. FR-5045-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Marsha Pruitt, Department of Agriculture, Reporters Building, 300 7th St., SW., Washington, DC 20250; (202) 720-4335; Air Force: Ms. Kathryn M. Halvorson, Director, Air Force Real Property Agency, 1700 North Moore St., Suite 2300, Arlington, VA 22209-2802; (703) 696-5502; Energy: Mr. John Watson, Department of Energy, Office of Engineering & Construction Management, ME-90, 1000 Independence Ave., SW., Washington, DC 20585: (202) 586-4548; Interior: Ms. Linda Tribby, Acquisition & Property Management, Department of the Interior, 1849 C Street, NW., MS5512, Washington, DC 20240; (202) 219-0728; Navy: Mr. Warren Meekins, Department of the Navy, Real Estate Services, Naval Facilities Engineering Command, Washington Navy Yard, 1322 Patterson Ave., SE., Suite 1000, Washington, DC 20374-5065; (202) 685-9305; (These are not toll-free numbers).

Dated: March 9, 2006.
Mark R. Johnston,
Acting Deputy Assistant Secretary for Special Needs.

TITLE V, FEDERAL SURPLUS PROPERTY PROGRAM FEDERAL REGISTER REPORT FOR MARCH 17, 2006

Suitable/Available Properties

Buildings (by State)

Alaska

Bldg. 7525

Elmendorf AFB

Elmendorf AFB AK 99506-

Landholding Agency: Air Force

Property Number: 18200230009

Status: Unutilized

Comment: 26,226 sq. ft., need rehab, possible asbestos/lead paint, most recent use—dormitory, off-site use only

California

Redwoods Office Bldg.

8038 Chilnualna Falls Road

Yosemite Natl Park

Wawona Co: Mariposa CA 95389-

Landholding Agency: Interior

Property Number: 61200530005

Status: Unutilized

Comment: 1746 sq. ft., possible asbestos/lead paint, off-site use only

Redwoods Bldg.

8038 Chilnualna Falls Road

Yosemite Natl Park

Wawona Co: Mariposa CA 95389-

Landholding Agency: Interior

Property Number: 61200530006

Status: Unutilized

Comment: 78 sq. ft., possible asbestos/lead paint, off-site use only

Hawaii

Bldg. 849

Bellows AFS

Bellows AFS HI

Landholding Agency: Air Force

Property Number: 18200330008

Status: Unutilized

Comment: 462 sq. ft., concrete storage facility

Idaho

Bldg. 79

Section 9

Portion of Tract C

Paul Co: Jeromo ID 83347-

Landholding Agency: Interior

Property Number: 61200520012

Status: Unutilized

Comment: 832 sq. ft., presence of asbestos/lead paint, most recent use—residence, off-site use only

Maryland

F. Boy Scouts Shed

Tract 403-48

Boonsboro Co: Washington MD

Landholding Agency: Interior

Property Number: 61200540008

Status: Excess

Comment: 378 sq. ft., needs rehab, off-site use only

Former Sera House

Tract 405-66

Middletown Co: Frederick MD 21769-

Landholding Agency: Interior

Property Number: 61200540009

Status: Excess

Comment: 1480 sq. ft. residence, needs rehab, off-site use only

Former Sera Shed

Tract 405-66

Middletown Co: Frederick MD 21769-

Landholding Agency: Interior

Property Number: 61200540010

Status: Excess

Comment: 80 sq. ft., needs rehab, off-site use only

Massachusetts

Bldgs. 3263-3266

Westover RAFB

Outer Road

Chicopee Co: MA 01022-

Landholding Agency: Navy

Property Number: 77200520002

Status: Excess

Comment: 3952 sq. ft., military family housing, needs rehab, off-site use only

Bldgs. 3200 thru 3214

Westover RAFB

Cowan Ave/Goodwin St

Chicopee Co: MA

Landholding Agency: Navy

Property Number: 77200520003

Status: Excess

Comment: various sq .ft., needs rehab, most recent use—admin., off-site use only

Missouri

Bldgs. 90A/B, 91A/B, 92A/B

Jefferson Barracks Housing

St. Louis MO 63125-

Landholding Agency: Air Force

Property Number: 18200220002

Status: Excess

Comment: 6450 sq. ft., needs repair, includes 2 acres

Bldg. 081

Rosecrans Memorial Airport

Saint Joseph Co: Buchanan MO 64503-

Landholding Agency: Air Force

Property Number: 18200610006

Status: Excess

Comment: 1440 sq. ft. trailer, off-site use only

New Hampshire

Bldg. 288

Naval Shipyard

Portsmouth Co: NH 03804-5000

Landholding Agency: Navy

Property Number: 77200510018

Status: Excess

Comment: 3600 sq. ft., presence of asbestos/lead paint, most recent use—ship filters shop, off-site use only

Bldg. 344

Naval Shipyard

Portsmouth Co: NH 03804-5000

Landholding Agency: Navy

Property Number: 77200510019

Status: Excess

Comment: 1406 sq. ft., presence of asbestos/lead paint, most recent use—riggers shop, off-site use only

Bldg. 346

Naval Shipyard

Portsmouth Co: NH 03804-5000

Landholding Agency: Navy

Property Number: 77200510020

Status: Excess

Comment: 545 sq. ft., presence of asbestos/lead paint, most recent use—locker bldg., off-site use only

Bldg. M-17

Naval Shipyard

Portsmouth Co: NH 03804-5000

Landholding Agency: Navy

Property Number: 77200510021

Status: Excess

Comment: 760 sq. ft., presence of asbestos/lead paint, most recent use—garage, off-site use only

New Jersey

Former Mussina House

Tract 307-21

Wantage Co: Sussex NJ

Landholding Agency: Interior

Property Number: 61200540005

Status: Excess

Comment: 1747 sq. ft. residence, needs rehab, off-site use only

Former Mussina Garage

Tract 307-21

Wantage Co: Sussex NJ

Landholding Agency: Interior

Property Number: 61200540006

Status: Excess

Comment: 730 sq. ft., needs rehab, off-site use only

Former Mussina Shed

Tract 307-21

Wantage Co: Sussex NJ

Landholding Agency: Interior

Property Number: 61200540007

Status: Excess

Comment: 480 sq. ft., needs rehab, off-site use only

New York

Bldg. 240

Rome Lab

Rome Co: Oneida NY 13441-

Landholding Agency: Air Force

Property Number: 18200340023

Status: Unutilized

Comment: 39108 sq. ft., presence of asbestos, most recent use—Electronic Research Lab

Bldg. 247

Rome Lab

Rome Co: Oneida NY 13441-

Landholding Agency: Air Force

Property Number: 18200340024

Status: Unutilized

Comment: 13199 sq. ft., presence of asbestos, most recent use—Electronic Research Lab

Bldg. 248

Rome Lab

Rome Co: Oneida NY 13441-

Landholding Agency: Air Force

Property Number: 18200340025

Status: Unutilized

Comment: 4000 sq. ft., presence of asbestos, most recent use—Electronic Research Lab

Bldg. 302

Rome Lab

Rome Co: Oneida NY 13441-

Landholding Agency: Air Force

Property Number: 18200340026

Status: Unutilized

Comment: 10288 sq. ft., presence of asbestos, most recent use—communications facility

F. Baron-Sousa House

Tract 284-43

Warwick Co: Orangw NY

Landholding Agency: Interior

Property Number: 61200540002

Status: Excess

Comment: 1122 sq. ft. residence, needs rehab, presence of asbestos, off-site use only

Former Fernau House

Tract 284-45

Warwick Co: Orange NY

Landholding Agency: Interior

Property Number: 61200540003

Status: Excess

Comment: 2963 sq. ft. residence, needs rehab, presence of asbestos, off-site use only

Former Fernau Garage

Tract 284-45

Warwick Co: Orange NY

Landholding Agency: Interior

Property Number: 61200540004

Status: Excess

Comment: 840 sq. ft., needs rehab, off-site use only

Building 1

Scotia Navy Depot

Scotia Co: Schenectady NY 12302-9460

Landholding Agency: Navy

Property Number: 77200440021

Status: Excess

Comment: 39,554 sq. ft., needs extensive repairs, presence of asbestos/lead paint, most recent use—office

South Carolina

Bldg. 3601

Hunley Park/Charleston AFB

N. Charleston Co: SC 29404-

Landholding Agency: Air Force

Property Number: 18200430013

Status: Excess

Comment: 1902 sq. ft., needs extensive repair, presence of asbestos/lead paint, most recent use—residential, off-site use only

7 Bldgs.

Charleston AFB

Floor Plan 1

N. Charleston Co: SC 29404-4827

Landholding Agency: Air Force

Property Number: 18200430023

Status: Excess

Comment: 2135 sq. ft., presence of asbestos/lead paint, most recent use—residential, off-site use only

4 Bldgs.

Charleston AFB

N. Charleston Co: SC 29404-

Location: 2314A/B, 2327A/B, 2339A/B, 2397A/B

Landholding Agency: Air Force

Property Number: 18200430025

Status: Excess

Comment: 2722 sq. ft., presence of asbestos/lead paint, most recent use—residential, off-site use only

4 Bldgs.

Charleston AFB

N. Charleston Co: SC 29404-

Location: 2315A/B, 2323A/B, 2330A/B, 2387A/B

Landholding Agency: Air Force

Property Number: 18200430027

Status: Excess

Comment: 2756 sq. ft., presence of asbestos/lead paint, most recent use—residential, off-site use only

3 Bldgs.

Charleston AFB

N. Charleston Co: SC 29404-

Location: 2321A/B, 2326A/B, 2336A/B

Landholding Agency: Air Force

Property Number: 18200430028

Status: Excess

Comment: 2766 sq. ft., presence of asbestos/lead paint, most recent use—residential, off-site use only

Bldg. 2331A /B

Charleston AFB

N. Charleston Co: SC 29494-

Landholding Agency: Air Force

Property Number: 18200430029

Status: Excess

Comment: 2803 sq. ft., presence of asbestos/lead paint, most recent use—residential, off-site use only

Bldg. 2341A/B

Charleston AFB

N. Charleston Co: SC 29404-

Landholding Agency: Air Force

Property Number: 18200430030

Status: Excess

Comment: 2715 sq. ft., presence of asbestos/lead paint, most recent use—residential, off-site use only

10 Bldgs.

Charleston AFB

Floor Plan D6

N. Charleston Co: SC 29204-

Landholding Agency: Air Force

Property Number: 18200430036

Status: Excess

Comment: 1241 sq. ft., presence of asbestos/lead paint, most recent use—residential, off-site use only

7 Bldgs.

Charleston AFB

Floor Plan DIV

N. Charleston Co: SC 29404-

Landholding Agency: Air Force

Property Number: 18200430038

Status: Excess

Comment: 1250 sq. ft., presence of asbestos/lead paint, most recent use—residential, off-site use only

7 Bldgs.

Charleston AFB

Floor Plan E6

N. Charleston Co: SC 29204-

Landholding Agency: Air Force

Property Number: 18200430040

Status: Excess

Comment: 1249 sq. ft., presence of asbestos/lead paint, most recent use—residential, off-site use only

11 Bldgs.

Charleston AFB

Floor Plan F6

N. Charleston Co: SC 29404-

Landholding Agency: Air Force

Property Number: 18200430041

Status: Excess

Comment: 1249 sq. ft., presence of asbestos/lead paint, most recent use—residential, off-site use only

11 Bldgs.

Charleston AFB

Floor Plan G6

N. Charleston Co: SC 29404-

Landholding Agency: Air Force

Property Number: 18200430042

Status: Excess

Comment: 1390 sq. ft., presence of asbestos/lead paint, most recent use—residential, off-site use only

9 Bldgs.

Charleston AFB

Floor Plan GV

N. Charleston Co: SC 29404-

Landholding Agency: Air Force

Property Number: 18200430043

Status: Excess

Comment: 1390 sq. ft., presence of asbestos/lead paint, most recent use—residential, off-site use only

8 Bldgs.

Charleston AFB

Floor Plan H6

N. Charleston Co: SC 29404-

Landholding Agency: Air Force

Property Number: 18200430044

Status: Excess

Comment: 1396 sq. ft., presence of asbestos/lead paint, most recent use—residential, off-site use only

Bldgs. 1841A/B, 1849A/B

Charleston AFB

N. Charleston Co: SC 29404-

Landholding Agency: Air Force

Property Number: 18200430045

Status: Excess

Comment: 2249 sq. ft., presence of asbestos/lead paint, most recent use—residential, off-site use only

9 Bldgs.

Charleston AFB

Floor Plan I6

N. Charleston Co: SC 29404-

Landholding Agency: Air Force

Property Number: 18200430046

Status: Excess

Comment: 1400 sq. ft., presence of asbestos/lead paint, most recent use—residential, off-site use only

7 Bldgs.

Charleston AFB

Floor Plan IV

N. Charleston Co: SC 29404-

Landholding Agency: Air Force

Property Number: 18200430047

Status: Excess

Comment: 1400 sq. ft., presence of asbestos/lead paint, most recent use—residential, off-site use only

4 Bldgs.

Charleston AFB

N. Charleston Co: SC 29404-\

Location: 1846A/B, 1853A/B, 1862A/B, 2203A/B

Landholding Agency: Air Force

Property Number: 18200430048

Status: Excess

Comment: 2363 sq. ft., presence of asbestos/lead paint, most recent use—residential, off-site use only

Bldg. 1765A/B

Charleston AFB

N. Charleston Co: SC 29404-

Landholding Agency: Air Force

Property Number: 18200430050

Status: Excess

Comment: 2558 sq. ft., presence of asbestos/lead paint, most recent use—residential, off-site use only

Bldg. 1828A/B

Charleston AFB

N. Charleston Co: SC 29404-

Landholding Agency: Air Force

Property Number: 18200430052

Status: Excess

Comment: 2330 sq. ft., presence of asbestos/lead paint, most recent use—residential, off-site use only

Texas

Water Tower

Lake Meredith Natl Rec Area

Fritch Co: Hutchinson TX 79036-

Landholding Agency: Interior

Property Number: 61200510002

Status: Unutilized

Comment: off-site use only

Virginia

Former C. Funk House

Appalachian Natl Scenic Trail

Rural Retreat Co: Smyth VA

Landholding Agency: Interior

Property Number: 61200530007

Status: Excess

Comment: 1144 sq. ft., needs rehab, presence of asbestos, off-site use only

Former Repass House

Appalachian Natl Scenic Trail

Rural Retreat Co: Smyth VA

Landholding Agency: Interior

Property Number: 61200530008

Status: Excess

Comment: 2008 sq. ft., needs rehab, presence of asbestos, off-site use only

Former Hoover House

Appalachian Natl Scenic Trail

Pearisburg Co: Giles VA

Landholding Agency: Interior

Property Number: 61200530009

Status: Excess

Comment: 996 sq. ft., needs rehab, presence of lead paint, off-site use only

Former Hoover Shed

Appalachian Natl Scenic Trail

Pearisburg Co: Giles VA

Landholding Agency: Interior

Property Number: 61200530010

Status: Excess

Comment: 128 sq. ft., needs rehab, presence of lead paint, off-site use only

Former Morse Cabin

Appalachian Natl Scenic Trail

Pearisburg Co: Giles VA

Landholding Agency: Interior

Property Number: 61200530011

Status: Excess

Comment: 792 sq. ft., needs rehab, off-site use only

Former Morse House

Appalachian Natl Scenic Trail

Pearisburg Co: Giles VA

Landholding Agency: Interior

Property Number: 61200530012

Status: Excess

Comment: 2025 sq. ft., needs rehab, presence of asbestos, off-site use only

Land (by State)

South Dakota

S. Nike Ed. Annex Land

Ellsworth AFB

Pennington SD 57706-

Landholding Agency: Air Force

Property Number: 18200220010

Status: Unutilized

Comment: 7 acres w/five foundations from demolished bldgs. remain on site; with a road and a parking lot

Suitable/Unavailable Properties

Buildings (by State)

Colorado

Bldg. 100

La Junta Strategic Range

La Junta Co: Otero CO 81050-9501

Landholding Agency: Air Force

Property Number: 18200230001

Status: Excess

Comment: 7760 sq. ft., most recent use—admin/electronic equip. maintenance

Bldg. 101

La Junta Strategic Range

La Junta Co: Otero CO 81050-9501

Landholding Agency: Air Force

Property Number: 18200230002

Status: Excess

Comment: 336 sq. ft., most recent use—storage

Bldg. 102

La Junta Strategic Range

La Junta Co: Otero CO 81050-9501

Landholding Agency: Air Force

Property Number: 18200230003

Status: Excess

Comment: 1056 sq. ft., most recent use—storage

Bldg. 103

La Junta Strategic Range

La Junta Co: Otero CO 81050-9501

Landholding Agency: Air Force

Property Number: 18200230004

Status: Excess

Comment: 784 sq. ft., most recent use—storage

Bldg. 104

La Junta Strategic Range

La Junta Co: Otero CO 81050-9501

Landholding Agency: Air Force

Property Number: 18200230005

Status: Excess

Comment: 312 sq. ft., most recent use—storage

Bldg. 106

La Junta Strategic Range

La Junta Co: Otero CO 81050-9501

Landholding Agency: Air Force

Property Number: 18200230006

Status: Excess

Comment: 100 sq. ft., most recent use—storage

New York

Bldg. 1225

Verona Text Annex

Verona Co: Oneida NY 13478-

Landholding Agency: Air Force

Property Number: 18200220014

Status: Unutilized

Comment: 3865 sq. ft., needs repair, presence of asbestos/lead paint, most recent use—research lab

Bldg. 1226

Verona Test Annex

Verona Co: Oneida NY 13478-

Landholding Agency: Air Force

Property Number: 18200220015

Status: Unutilized

Comment: 7500 sq. ft., most recent use—storage

Bldg. 1227

Verona Text Annex

Verona Co: Oneida NY 13478-

Landholding Agency: Air Force

Property Number: 18200220016

Status: Unutilized

Comment: 1152 sq. ft., presence of asbestos/lead paint, most recent use—power station

Bldg. 1231

Verona Test Annex

Verona Co: Oneida NY 13478-

Landholding Agency: Air Force

Property Number: 18200220017

Status: Unutilized

Comment: 3865 sq. ft., presence of asbestos/lead paint/volatile organic compounds, access requirements, most recent use—research lab

Bldg. 1233

Verona Test Annex

Verona Co: Oneida NY 13478-

Landholding Agency: Air Force

Property Number: 18200220018

Status: Unutilized

Comment: 1152 sq. ft., needs repair, presence of asbestos/lead paint/volatile organic compounds, access requirements, most recent use—power station

Bldgs. 1235, 1239

Verona Test Annex

Verona Co: Oneida NY 13478-

Landholding Agency: Air Force

Property Number: 18200220019

Status: Unutilized

Comment: 144/825 sq. ft., need repairs, presence of lead paint, most recent use—electric switch station

Bldg. 1241

Verona Test Annex

Verona Co: Oneida NY 13478-

Landholding Agency: Air Force

Property Number: 18200220020

Status: Unutilized

Comment: 159 sq. ft., presence of lead paint, most recent use—sewage pump station

Bldg. 1243

Verona Test Annex

Verona Co: Oneida NY 13478-

Landholding Agency: Air Force

Property Number: 18200220021

Status: Unutilized

Comment: 25 sq. ft., most recent use—waste treatment

Bldg. 1245

Verona Test Annex

Verona Co: Oneida NY 13478-

Landholding Agency: Air Force

Property Number: 18200220022

Status: Unutilized

Comment: 3835 sq. ft., needs repair, presence of asbestos/lead paint, most recent use—research lab

Bldg. 1247

Verona Test Annex

Verona Co: Oneida NY 13478-

Landholding Agency: Air Force

Property Number: 18200220023

Status: Unutilized

Comment: 576 sq. ft., needs repair, presence of asbestos/lead paint, most recent use—power station

Bldg. 1250 + land

Verona Test Annex

Verona Co: Oneida NY 13478-

Landholding Agency: Air Force

Property Number: 18200220024

Status: Unutilized

Comment: 11,766 sq. ft. offices/lab with 495 acres, presence of asbestos/lead paint/wetlands

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab

Bldg. 1255

Verona Test Annex

Verona Co: Oneida NY 13478-

Landholding Agency: Air Force

Property Number: 18200220026

Status: Unutilized

Comment: 576 sq. ft., needs repair, presence of lead paint/volatile organic compounds, access requirement, most recent use—power station

Bldg. 1261

Verona Test Annex

Verona Co: Oneida NY 13478-

Landholding Agency: Air Force

Property Number: 18200220027

Status: Unutilized

Comment: 3835 sq. ft., needs repair, presence of asbestos/lead paint, most recent use—research lab

Bldg. 1263

Verona Test Annex

Verona Co: Oneida NY 13478-

Landholding Agency: 18200220028

Status: Unutilized

Comment: 576 sq. ft. needs repair, presence of lead paint, most recent use—power station

Bldgs. 1266, 1269

Verona Test Annex

Verona Co: Oneida NY 13478-

Landholding Agency: Air Force

Property Number: 18200220029

Status: Unutilized

Comment: 3730/3865 sq. ft., need repairs, presence of asbestos/lead paint, most recent use—research lab

Bldg. 1271

Verona Test Annex

Verona Co: Oneida NY 13478-

Landholding Agency: Air Force

Property number: 18200220030

Status: Unutilized

Comment: 1152 sq. ft., needs repair, presence of lead paint, most recent use—power station

Bldg. 1273

Verona Test Annex

Verona Co: Oneida NY 13478-

Landholding Agency: Air Force

Property Number: 18200220031

Status: Unutilized

Comment: 87 sq. ft., presence of asbestos, most recent use—sewage pump station

Bldg. 1277

Verona Test Annex

Verona Co: Oneida NY 13478-

Landholding Agency: Air Force

Property Number: 18200220032

Status: Unutilized

Comment: 3865 sq. ft., needs repair, presence of asbestos/lead paint, most recent use—research lab

Bldg. 1279

Verona Test Annex

Verona Co: Oneida NY 13478-

Landholding Agency: Air Force

Property Number: 18200220033

Status: Unutilized

Comment: 1152 sq. ft., needs repair, presence of lead paint, most recent use—power station

Bldg. 1285

Verona Test Annex

Verona Co: Oneida NY 13478-

Landholding Agency: Air Force

Property Number: 18200220034

Status: Unutilized

Comment: 4690 sq. ft., needs repair, presence of asbestos/lead paint, most recent use—research lab

Bldg. 1287

Verona Test Annex

Verona Co: Oneida NY 13478-

Landholding Agency: Air Force

Property Number: 18200220035

Status: Unutilized

Comment: 1152 sq. ft., needs repair, presence of lead paint, most recent use—power station

Washington

22 Bldgs./Geiger Heights

Fairchild AFB

Spokane WA 99224-

Landholding Agency: Air Force

Property Number: 18200420001

Status: Unutilized

Comment: 1625 sq. ft., possible asbestos/lead paint, most recent use—residential

Bldg. 404/Geiger Heights

Fairchild AFB

Spokane WA 99224-

Landholding Agency: Air Force

Property Number: 18200420002

Status: Unutilized

Comment: 1996 sq. ft., possible asbestos/lead paint, most recent use—residential

11 Bldgs./Geiger Heights

Fairchild AFB

Spokane WA 99224-

Landholding Agency: Air Force

Property Number: 18200420003

Status: Unutilized

Comment: 2134 sq. ft., possible asbestos/lead paint, most recent use—residential

Bldg. 297/Geiger Heights

Fairchild AFB

Spokane WA 99224-

Landholding Agency: Air Force

Property Number: 18200420004

Status: Unutilized

Comment: 1425 sq. ft., possible asbestos/lead paint, most recent use—residential

9 Bldgs./Geiger Heights

Fairchild AFB

Spokane WA 99224-

Landholding Agency: Air Force

Property Number: 18200420005

Status: Unutilized

Comment: 1620 sq. ft., possible asbestos/lead paint, most recent use—residential

22 Bldgs./Geiger Heights

Fairchild AFB

Spokane WA 99224-

Landholding Agency: Air Force

Property Number: 18200420006

Status: Unutilized

Comment: 2850 sq. ft., possible asbestos/lead paint, most recent use—residential

51 Bldgs./Geiger Heights

Fairchild AFB

Spokane WA 99224-

Landholding Agency: Air Force

Property Number: 18200420007

Status: Unutilized

Comment: 2574 sq. ft., possible asbestos/lead paint, most recent use—residential

Bldg. 402/Geiger Heights

Fairchild AFB

Spokane WA 99224-

Landholding Agency: Air Force

Property Number: 18200420008

Status: Unutilized

Comment: 2451 sq. ft., possible asbestos/lead paint, most recent use—residential

5 Bldgs./Geiger Heights

Fairchild AFB

222, 224, 271, 295, 260

Spokane WA 99224-

Landholding Agency: Air Force

Property Number: 18200420009

Status: Unutilized

Comment: 3043 sq. ft., possible asbestos/lead paint, most recent use—residential

5 Bldgs./Geiger Heights

Fairchild AFB

102, 183, 118, 136, 113

Spokane WA 99224-

Landholding Agency: Air Force

Property Number: 18200420010

Status: Unutilized

Comment: 2599 sq. ft., possible asbestos/lead paint, most recent use—residential

Land (by State)

South Dakota

Tract 133

Ellsworth AFB

Box Elder Co: Pennington SD 57706-

Landholding Agency: Air Force

Property Number: 18200310004

Status: Unutilized

Comment: 53.23 acres

Tract 67

Ellsworth AFB

Box Elder Co: Pennington SD 57706-

Landholding Agency: Air Force

Property Number: 18200310005

Status: Unutilized

Comment: 121 acres, bentonite layer in soil, causes movement

Unsuitable Properties

Buildings (by State)

Alaska

Bldg. 15532

Elmendorf AFB

Elmendorf AFB AK 99506-

Landholding Agency: Air Force

Property Number: 18200220001

Status: Unutilized

Reasons: Within airport runway clear zone; Secured Area

Bldg. 8354

Elmendorf AFB

Elmendorf AFB AK 99506-

Landholding Agency: Air Force

Property Number: 18200240001

Status: Unutilized

Reason: Extensive deterioration

Bldg. 11827

Elmendorf AFB

Elmendorf AFB AK 99506-

Landholding Agency: Air Force

Property Number: 18200240002

Status: Unutilized

Reasons: Within 2000 ft. of flammable or explosive material; Secured Area

Bldg. 7537

Elmendorf Air Force Base

Elmendorf AFB AK 99506-

Landholding Agency: Air Force

Property Number: 18200320001

Status: Unutilized

Reason: Extensive deterioration

Bldg. 9340

Elmendorf Air Force Base

Elmendorf AFB AK 99506-

Landholding Agency: Air Force

Property Number: 18200320002

Status: Unutilized

Reason: Extensive deterioration

Bldg. 9342

Elmendorf Air Force Base

Elmendorf AFB AK 99506-

Landholding Agency: Air Force

Property Number: 18200320003

Status: Unutilized

Reason: Extensive deterioration

Bldg. 12737

Elmendorf Air Force Base

Elmendorf AFB AK 99506-

Landholding Agency: Air Force

Property Number: 18200320004

Status: Unutilized

Reason: Extensive deterioration

Bldg. 13251

Elmendorf Air Force Base

Elemendorf AFB AK 99506-

Landholding Agency: Air Force

Property Number: 18200320005

Status: Unutilized

Reason: Extensive deterioration

Bldg. 29453

Elmendorf Air Force Base

Elmendorf AFB AK 99506-

Landholding Agency: Air Force

Property Number: 18200320006

Status: Unutilized

Reason: Extensive deterioration

Bldg. 6527

Elmendorf AFB

Elmendorf AFB AK 99506-

Landholding Agency: Air Force

Property Number: 18200330001

Status: Unutilized

Reason: Extensive deterioration

Bldg. 12739

Elmendorf AFB

Elmendorf AFB AK 99506-

Landholding Agency: Air Force

Property Number: 18200330002

Status: Unutilized

Reason: Extensive deterioration

Bldg. 4314

Elmendorf AFB

Elmendorf AFB AK 99506-

Landholding Agency: Air Force

Property Number: 18200340001

Status: Unutilized

Reason: Extensive deterioration

Bldg. 6527

Elmendorf AFB

Elmendorf AFB AK 99506-

Landholding Agency: Air Force

Property Number: 18200340002

Status: Unutilized

Reason: Extensive deterioration

Bldg. 7541

Elmendorf AFB

Elmendorf AFB AK 99506-

Landholding Agency: Air Force

Property Number: 18200340003

Status: Unutilized

Reason: Extensive deterioration

Bldg. 8111

Elmendorf AFB

Elmendorf AFB AK 99506-

Landholding Agency: Air Force

Property Number: 18200340004

Status: Unutilized

Reason: Extensive deterioration

Bldg. 9489

Elmendorf AFB

Elmendorf AFB AK 99506-

Landholding Agency: Air Force

Property Number: 18200340005

Status: Unutilized

Reason: Extensive deterioration

Bldg. 10547

Elmendorf AFB

Elmendorf AFB AK 99506-

Landholding Agency: Air Force

Property Number: 18200340006

Status: Unutilized

Reason: Extensive deterioration

California

Assessor's Parcel

#5823-003-911

Oak Grove Drive

Pasadena Co: CA

Landholding Agency: Agriculture

Property Number: 15200610001

Status: Unutilized

Reason: Extensive deterioration

Bldg. 30101

Vandenberg AFB

Vandenberg Co: Santa Barbara CA 93437-

Landholding Agency: Air Force

Property Number: 18200210019

Status: Unutilized

Reason: Secured Area

Bldgs. 30131, 30709

Vandenberg AFB

Vandenberg Co: Santa Barbara CA 93437-

Landholding Agency: Air Force

Property Number: 18200210020

Status: Unutilized

Reason: Secured Area

Bldgs. 30137, 30701

Vandenberg AFB

Vandenberg Co: Santa Barbara CA 93437-

Landholding Agency: Air Force

Property Number: 18200210021

Status: Unutilized

Reason: Secured Area

Bldg. 30235

Vandenberg AFB

Vandenberg Co: Santa Barbara CA 93437-

Landholding Agency: Air Force

Property Number: 18200210022

Status: Unutilized

Reason: Secured Area

Bldgs. 30238, 30446

Vandenberg AFB

Vandenberg Co: Santa Barbara CA -

Landholding Agency: Air Force

Property Number: 18200210023

Status: Unutilized

Reason: Secured Area

Bldgs. 30239, 30444

Vandenberg AFB

Vandenberg Co: Santa Barbara CA 93437-

Landholding Agency: Air Force

Property Number: 18200210024

Status: Unutilized

Reason: Secured Area

Bldgs. 30306, 30335, 30782

Vandenberg AFB

Vandenberg Co: Santa Barbara CA 93437-

Landholding Agency: Air Force

Property Number: 18200210025

Status: Unutilized

Reason: Secured Area

Bldgs. 30339, 30340, 30341

Vandenberg AFB

Vandenberg Co: Santa Barbara CA 93437-

Landholding Agency: Air Force

Property Number: 18200210026

Status: Unutilized

Reason: Secured Area

Bldg. 30447

Vandenberg AFB

Vandenberg Co: Santa Barbara CA 93437-

Landholding Agency: Air Force

Property Number: 18200210027

Status: Unutilized

Reason: Secured Area

Bldg. 30524

Vandenberg AFB

Vandenberg Co: Santa Barbara CA 93437-

Landholding Agency: Air Force

Property Number: 18200210028

Status: Unutilized

Reason: Secured Area

Bldg. 30647

Vandenberg AFB

Vandenberg Co: Santa Barbara CA 93437-

Landholding Agency: Air Force

Property Number: 18200210029

Status: Unutilized

Reason: Secured Area

Bldgs. 30710, 30717

Vandenberg AFB

Vandenberg Co: Santa Barbara CA 93437-

Landholding Agency: Air Force

Property Number: 18200210030

Status: Unutilized

Reason: Secured Area

Bldgs. 30718, 30607

Vandenberg AFB

Vandenberg Co: Santa Barbara CA 93437-

Landholding Agency: Air Force

Property Number: 18200210031

Status: Unutilized

Reason: Secured Area

Bldgs. 30722, 30735

Vandenberg AFB

Vandenberg Co: Santa Barbara CA 93437-

Landholding Agency: Air Force

Property Number: 18200210032

Status: Unutilized

Reason: Secured Area

Bldgs. 30775, 30777

Vandenberg AFB

Vandenberg Co: Santa Barbara CA 93437-

Landholding Agency: Air Force

Property Number: 18200210033

Status: Unutilized

Reason: Secured Area

Bldgs. 30830, 30837

Vandenberg AFB

Vandenberg Co: Santa Barbara CA 93437-

Landholding Agency: Air Force

Property Number: 18200210034

Status: Unutilized

Reason: Secured Area

Bldgs. 30839, 30844, 30854

Vandenberg AFB

Vandenberg Co: Santa Barbara CA 93437-

Landholding Agency: Air Force

Property Number: 18200210035

Status: Unutilized

Reason: Secured Area

Bldg. 06522

Vandenberg AFB

Vandenberg AFB Co: Santa Barbara CA 93437-

Landholding Agency: Air Force

Property Number: 18200330004

Status: Unutilized

Reasons: Secured Area; Extensive deterioration

Bldg. 98

Vandenberg AFB

Oak Mountain Annex

Santa Barbara Co: CA 93437-

Landholding Agency: Air Force

Property Number: 18200430001

Status: Unutilized

Reasons: Secured Area; Extensive deterioration

Bldg. 488

Vandenberg AFB

Santa Barbara Co: CA 93437-

Landholding Agency: Air Force

Property Number: 18200430002

Status: Unutilized

Reasons: Secured Area; Extensive deterioration

Bldg. 535

Vandenberg AFB

Santa Barbara Co: CA 93437-

Landholding Agency: Air Force

Property Number: 18200430003

Status: Unutilized

Reasons: Secured Area; Extensive deterioration

Bldgs. 734, 738-739

Vandenberg AFB

Santa Barbara Co: CA 93437-

Landholding Agency: Air Force

Property Number: 18200430004

Status: Unutilized

Reason: Secured Area;

Bldg. 946

Vandenberg AFB

Santa Barbara Co: CA 93437-

Landholding Agency: Air Force

Property Number: 18200430005

Status: Unutilized

Reason: Secured Area

Bldgs. 1200, 1201

Vandenberg AFB

Santa Barbara Co: CA 93437-

Landholding Agency: Air Force

Property Number: 18200430006

Status: Unutilized

Reasons: Secured Area; Extensive deterioration

Bldg. 1205

Vandenberg AFB

Santa Barbara Co: CA 93437-

Landholding Agency: Air Force

Property Number: 18200430007

Status: Unutilized

Reasons: Secured Area; Extensive deterioration

36 Bldgs.

Edwards AFB

Area F Housing

Kern Co: CA 93524-

Landholding Agency: Air Force

Property Number: 18200430008

Status: Unutilized

Reasons: Secured Area ; Extensive deterioration

Bldgs. 7105, 7106

Edwards AFB

Area C

Kern Co: CA 93524-

Landholding Agency: Air Force

Property Number: 18200430009

Status: Unutilized

Reasons: Secured Area; Extensive deterioration

28 Bldgs.

Edwards AFB

Area C

Kern Co: CA 93524-

Landholding Agency: Air Force

Property Number: 18200440001

Status: Excess

Reasons: Secured Area; Extensive deterioration

Bldg. 719

Vandenberg AFB

Lompoc Co: Santa Barbara CA 93437-

Landholding Agency: Air Force

Property Number: 18200510001

Status: Unutilized

Reason: Secured Area

Bldg. 725

Vandenberg AFB

Lompoc Co: Santa Barbara CA 93437-

Landholding Agency: Air Force

Property Number: 18200510002

Status: Unutilized

Reason: Secured Area

Bldg. 729

Vandenberg AFB

Lompoc Co: Santa Barbara CA 93437-

Landholding Agency: Air Force

Property Number: 18200510003

Status: Unutilized

Reason: Secured Area

Bldg. 734

Vandenberg AFB

Lompoc Co: Santa Barbara CA 93437-

Landholding Agency: Air Force

Property Number: 18200510004

Status: Unutilized

Reason: Secured Area

Bldg. 737

Vandenberg AFB

Lompoc Co: Santa Barbara CA 93437-

Landholding Agency: Air Force

Property Number: 18200510005

Status: Unutilized

Reason: Secured Area

Bldg. 742

Vandenberg AFB

Lompoc Co: Santa Barbara CA 93437-

Landholding Agency: Air Force

Property Number: 18200510006

Status: Unutilized

Reason: Secured Area

Bldg. 746

Vandenberg AFB

Lompoc Co: Santa Barbara CA 93437-

Landholding Agency: Air Force

Property Number: 18200510007

Status: Unutilized

Reason: Secured Area

87 Buildings

Edwards AFB

Area “F”

Kern Co: CA 93524-

Landholding Agency: Air Force

Property Number: 18200510008

Status: Unutilized

Reasons: Secured Area; Extensive deterioration

7 Buildings

Edwards AFB

Area “C”

Kern Co: CA 93524-

Landholding Agency: Air Force

Property Number: 18200510009

Status: Unutilized

Reasons: Secured Area; Extensive deterioration

Bldg. 11237

Vandenberg AFB

Lompoc Co: Santa Barbara CA 93437-

Landholding Agency: Air Force

Property Number: 18200520001

Status: Unutilized

Reason: Secured Area

Bldg. 02423

Edwards AFB

Kern Co: CA 93524-

Landholding Agency: Air Force

Property Number: 18200530001

Status: Unutilized

Reason: Secured Area

205 Bldgs., Area F

Edwards AFB

Kern Co: CA 93524-

Landholding Agency: Air Force

Property Number: 18200530002

Status: Excess

Reasons: Secured Area; Extensive deterioration

Bldgs. 01423, 01428

Edwards AFB

Kern Co: CA

Landholding Agency: Air Force

Property Number: 18200540001

Status: Unutilized

Reasons: Within 2000 ft. of flammable or explosive material; Within airport runway clear zone; Secured Area

Structure 2600

Edwards AFB

Kern Co: CA

Landholding Agency: Air Force

Property Number: 18200540002

Status: Unutilized

Reason: Secured Area

Structure 08672

Edwards AFB

Kern Co: CA

Landholding Agency: Air Force

Property Number: 18200540003

Status: Unutilized

Reasons: Within 2000 ft. of flammable or explosive material; Within airport runway clear zone; Secured Area

18 Bldgs.

Edwards AFB

Area A

Kern Co: CA 93523-

Landholding Agency: Air Force

Property Number: 18200610001

Status: Excess

Reasons: Secured Area; Extensive deterioration

73 Bldgs.

Edwards AFB

Area G

Kern Co: CA 93524-

Landholding Agency: Air Force

Property Number: 18200610002

Status: Excess

Reasons: Secured Area; Extensive deterioration

Bldg./Lodge

Yosemite National Park

Yosemite Co: Mariposa CA 95389-

Landholding Agency: Interior

Property Number: 61200420011

Status: Unutilized

Reason: Extensive deterioration

Bldg. 2533

Marine Corps Base

Camp Pendleton Co: CA 92055-

Landholding Agency: Navy

Property Number: 77200520005

Status: Excess

Reasons: Secured Area; Extensive deterioration

Bldg. 13111

Marine Corps Base

Camp Pendleton Co: CA 92055-

Landholding Agency: Navy

Property Number: 77200520006

Status: Excess

Reasons: Secured Area; Extensive deterioration

Bldgs. 53325, 53326

Marine Corps Base

Camp Pendleton Co: CA 92055-

Landholding Agency: Navy

Property Number: 77200520007

Status: Excess

Reasons: Secured Area; Extensive deterioration

5 Bldgs.

Marine Corps Base 53421, 53424 thru 53427

Camp Pendleton Co: CA 92055-

Landholding Agency: Navy

Property Number: 77200520008

Status: Excess

Reasons: Secured Area; Extensive deterioration

Bldgs. 61311, 61313, 61314

Marine Corps Base

Camp Pendleton Co: CA 92055-

Landholding Agency: Navy

Property Number: 77200520009

Status: Excess

Reasons: Secured Area; Extensive deterioration

Bldgs. 61320-61324, 61326

Marine Corps Base

Camp Pendleton Co: CA 92055-

Landholding Agency: Navy

Property Number: 77200520010

Status: Excess

Reasons: Secured Area; Extensive deterioration

Bldgs. 62711 thru 62717

Marine Corps Base

Camp Pendleton Co: CA 92055-

Landholding Agency: Navy

Property Number: 77200520011

Status: Excess

Reasons: Secured Area; Extensive deterioration

Bldgs. 4 & 15

Naval Submarine Base

Point Loma Co: CA-

Landholding Agency: Navy

Property Number: 77200520014

Status: Unutilized

Reason: Extensive deterioration

Bldgs. 8902-8905

Naval Weapons Station

Seal Beach Co: CA 90740-

Landholding Agency: Navy

Property Number: 77200530003

Status: Excess

Reason: Extensive deterioration

Bldgs. 8915, 8931

Naval Weapons Station

Seal Beach Co: CA 90740-

Landholding Agency: Navy

Property Number: 77200530004

Status: Excess

Reason: Extensive deterioration

Bldgs. 11, 112

Naval Weapons Station

Seal Beach Co: CA 90740-

Landholding Agency: Navy

Property Number: 77200530005

Status: Unutilized

Reason: Extensive deterioration

Bldg. 805

Naval Weapons Station

Seal Beach Co: CA 90740-

Landholding Agency: Navy

Property Number: 77200530006

Status: Unutilized

Reason: Extensive deterioration

Bldgs. 810 thru 823

Naval Weapons Station

Seal Beach Co: CA 90740-

Landholding Agency: Navy

Property Number: 77200530007

Status: Unutilized

Reason: Extensive deterioration

Bldgs. 851, 859, 864

Naval Weapons Station

Seal Beach Co: CA 90740-

Landholding Agency: Navy

Property Number: 77200530008

Status: Unutilized

Reason: Extensive deterioration

Bldg. 1146

Naval Base

Port Hueneme Co: Ventura CA 93042-

Landholding Agency: Navy

Property Number: 77200530009

Status: Unutilized

Reason: Extensive deterioration

Bldgs. 1370, 1371, 1372

Naval Base

Port Hueneme Co: Ventura CA 93042-

Landholding Agency: Navy

Property Number: 77200530011

Status: Unutilized

Reason: Extensive deterioration

Bldg. 115

Naval Base

San Diego Co: CA

Landholding Agency: Navy

Property Number: 77200530012

Status: Excess

Reason: Extensive deterioration

Bldg. 1674

Marine Corps Base

Camp Pendletoon Co: CA 92055-

Landholding Agency: Navy

Property Number: 77200530027

Status: Excess

Reasons: Secured Area; Extensive deterioration

Bldgs. 2636, 2651, 2658

Marine Corps Base

Camp Pendleton Co: CA 92055-

Landholding Agency: Navy

Property Number: 77200530028

Status: Excess

Reasons: Secured Area; Extensive deterioration

4 Bldgs.

Marine Corps Base

Camp Pendleton Co: CA 92055-

Location: 26053, 26054, 26056, 26059

Landholding Agency: Navy

Property Number: 77200530029

Status: Excess

Reasons: Secured Area; Extensive deterioration

Bldgs. 53333, 53334

Marine Corps Base

Camp Pendleton Co: CA 92055-

Landholding Agency: Navy

Property Number: 77200530030

Status: Excess

Reasons: Secured Area; Extensive deterioration

Bldgs. 53507, 53569

Marine Corps Base

Camp Pendleton Co: CA 92055-

Landholding Agency: Navy

Property Number: 77200530031

Status: Excess

Reasons: Secured Area; Extensive deterioration

Bldg. 170111

Marine Corps Base

Camp Pendleton Co: CA 92055-

Landholding Agency: Navy

Property Number: 77200530032

Status: Excess

Reasons: Secured Area; Extensive deterioration

Bldg. PM4-3

Naval Base

Oxnard Co: Ventura CA 93042-

Landholding Agency: Navy

Property Number: 77200530033

Status: Unutilized

Reason: Extensive deterioration

Bldg. 1781

Marine Corps Base

Camp Pendleton Co: CA 92055-

Landholding Agency: Navy

Property Number: 77200540001

Status: Excess

Reasons: Secured Area; Extensive deterioration

Bldgs. 76, 477, 720

Naval Air Station

Lemoore Co: CA 93246-

Landholding Agency: Navy

Property Number: 77200540002

Status: Unutilized

Reason: Extensive deterioration

Bldgs. 398, 399, 404

Naval Base Point Loma

San Diego Co: CA

Landholding Agency: Navy

Property Number: 77200540003

Status: Unutilized

Reason: Extensive deterioration

Bldgs. 388, 389, 390, 391

Naval Base Point Loma

San Diego Co: CA

Landholding Agency: Navy

Property Number: 77200540004

Status: Unutilized

Reason: Extensive deterioration

Bldg. 16

Naval Submarine Base

San Diego Co: CA

Landholding Agency: Navy

Property Number: 77200540017

Status: Unutilized

Reasons: Within 2000 ft. of flammable or explosive material; Secured Area; Extensive deterioration

Bldgs. 1647, 1648

Marine Corps Base

Camp Pendleton Co: CA 92055-

Landholding Agency: Navy

Property Number: 77200610010

Status: Excess

Reason: Extensive deterioration

Bldg. 1713

Marine Corps Base

Camp Pendleton Co: CA 92055-

Landholding Agency: Navy

Property Number: 77200610011

Status: Excess

Reason: Extensive deterioration

Bldg. 16171

Marine Corps Base

Camp Pendleton Co: CA 92055-

Landholding Agency: Navy

Property Number: 77200610012

Status: Excess

Reason: Extensive deterioration

Bldg. 2100576

Marine Corps Base

Camp Pendleton Co: CA 92055-

Landholding Agency: Navy

Property Number: 77200610013

Status: Excess

Reason: Extensive deterioration

Bldg. 220189

Marine Corps Base

Camp Pendleton Co: CA 92055-

Landholding Agency: Navy

Property Number: 77200610014

Status: Excess

Reason: Extensive deterioration

Bldg. 2295

Marine Corps Base

Camp Pendleton Co: CA 92055-

Landholding Agency: Navy

Property Number: 77200610015

Status: Excess

Reason: Extensive deterioration

Bldgs. 22115, 22116, 22117

Marine Corps Base

Camp Pendleton Co: CA 92055-

Landholding Agency: Navy

Property Number: 77200610016

Status: Excess

Reason: Extensive deterioration

Bldg. 143

Naval Air Station

Lemoore Co: CA

Landholding Agency: Navy

Property Number: 77200610017

Status: Excess

Reason: Extensive deterioration

Bldgs. 213, 243, 273

Naval Air Station

Lemoore Co: CA

Landholding Agency: Navy

Property Number: 77200610018

Status: Excess

Reason: Extensive deterioration

Bldg. 303

Naval Air Station

Lemoore Co: CA

Landholding Agency: Navy

Property Number: 77200610019

Status: Excess

Reason: Extensive deterioration

Bldg. 471

Naval Air Station

Lemoore Co: CA

Landholding Agency: Navy

Property Number: 77200610020

Status: Excess

Reason: Extensive deterioration

Bldgs. 979, 928, 930

Naval Air Station

Lemoore Co: CA

Landholding Agency: Navy

Property Number: 77200610021

Status: Excess

Reason: Extensive deterioration

Bldgs. 999, 1000

Naval Air Station

Lemoore Co: CA

Landholding Agency: Navy

Property Number: 77200610022

Status: Excess

Reason: Extensive deterioration

Bldgs. 305, 353

Naval Base Point Loma

San Diego Co: CA

Landholding Agency: Navy

Property Number: 77200610023

Status: Unutilized

Reason: Extensive deterioration

Bldgs. 358, 359, 360, 361

Naval Base Point Loma

San Diego Co: CA

Landholding Agency: Navy

Property Number: 77200610024

Status: Unutilized

Reason: Extensive deterioration

Bldgs. 429, 431, 432

Naval Base Point Loma

San Diego Co: CA

Landholding Agency: Navy

Property Number: 77200610025

Status: Unutilized

Reason: Extensive deterioration

Bldg. 581

Naval Base Point Loma

San Diego Co: CA

Landholding Agency: Navy

Property Number: 77200610026

Status: Unutilized

Reason: Extensive deterioration

Bldgs. A25, A27

Naval Base Point Loma

San Diego Co: CA

Landholding Agency: Navy

Property Number: 77200610027

Status: Unutilized

Reason: Extensive deterioration

Colorado

Bldg. 105

Peterson AFB

Colorado Springs Co: El Paso CO 80914-

Landholding Agency: Air Force

Property Number: 18200310003

Status: Underutilized

Reasons: Within airport runway clear zone; Secured Area

Bldg. 106

Peterson AFB

Colorado Springs Co: El Paso CO 80914-8090

Landholding Agency: Air Force

Property Number: 18200340010

Status: Underutilized

Reasons: Within 2000 ft. of flammable or explosive material; Within airport runway clear zone; Secured Area

Bldg. 107

Peterson AFB

Colorado Springs Co: El Paso CO 80914-8090

Landholding Agency: Air Force

Property Number: 18200340011

Status: Underutilized

Reasons: Within 2000 ft. of flammable or explosive material; Within airport runway clear zone; Secured Area

Bldg. 108

Peterson AFB

Colorado Springs Co: El Paso CO 80914-8090

Landholding Agency: Air Force

Property Number: 18200340012

Status: Underutilized

Reasons: Within 2000 ft. of flammable or explosive material; Within airport runway clear zone; Secured Area

Connecticut

Bldg. CT380

Naval Submarine Base

Groton Co: New London CT 06340-

Landholding Agency: Navy

Property Number: 77200510016

Status: Unutilized

Reason: Extensive deterioration

Florida

Bldg. 1345

Cape Canaveral AFS

Cape Canaveral Co: Brevard FL 32907-

Landholding Agency: Air Force

Property Number: 18200210016

Status: Unutilized

Reasons: Within 2000 ft. of flammable or explosive material; Secured Area

Bldg. 55122

Cape Canaveral AFS

Cape Canaveral Co: Brevard FL 32907-

Landholding Agency: Air Force

Property Number: 18200210018

Status: Unutilized

Reasons: Within 2000 ft. of flammable or explosive material; Secured Area

Bldg. 1705

Cape Canaveral AFS

Cape Canaveral Co: Brevard FL 32907-

Landholding Agency: Air Force

Property Number: 18200330005

Status: Unutilized

Reasons: Within 2000 ft. of flammable or explosive material; Secured Area; Extensive deterioration

Bldg. 70500 V.I.B.

Cape Canaveral

Brevard Co: FL 32907-

Landholding Agency: Air Force

Property Number: 18200510010

Status: Underutilized

Reason: Secured Area

Bldg. U-150

Naval Air Station

Key West Co: Monroe FL 33040-

Landholding Agency: Navy

Property Number: 77200520044

Status: Excess

Reasons: Secured Area; Extensive deterioration

Bldgs. V1221 A&B

Naval Air Station

Sigsbee Park

Key West Co: Monroe FL 33040-

Landholding Agency: Navy

Property Number: 77200530013

Status: Unutilized

Reasons: Secured Area; Extensive deterioration

Bldg. 969

Naval Air Station

Jacksonville Co: Duval FL 32212-

Landholding Agency: Navy

Property Number: 77200540014

Status: Unutilized

Reason: Secured Area

Bldgs. 1759, 1760

Naval Air Station

Jacksonville Co: Duval FL

Landholding Agency: Navy

Property Number: 77200540015

Status: Unutilized

Reason: Secured Area

Bldg. 1917

Naval Air Station

Jacksonville Co: Duval FL 32212-

Landholding Agency: Navy

Property Number: 77200540016

Status: Unutilized

Reason: Secured Area

Bldgs. 1, 2

Naval Station

Mayport Co: Duval FL 32228-

Landholding Agency: Navy

Property Number: 77200540018

Status: Excess

Reasons: Floodway; Secured Area; Extensive deterioration

Bldg. 24

Naval Station

Mayport Co: Duval FL 32228-

Landholding Agency: Navy

Property Number: 77200540019

Status: Excess

Reasons: Floodway; Secured Area; Extensive deterioration

Bldg. 66

Naval Station

Mayport Co: Duval FL 32228-

Landholding Agency: Navy

Property Number: 77200540020

Status: Excess

Reasons: Floodway; Secured Area; Extensive deterioration

Bldg. 216

Naval Station

Mayport Co: Duval FL 32228-

Landholding Agency: Navy

Property Number: 77200540021

Status: Excess

Reasons: Floodway; Secured Area; Extensive deterioration

Bldgs. 437, 450

Naval Station

Mayport Co: Duval FL 32228-

Landholding Agency: Navy

Property Number: 77200540022

Status: Excess

Reasons: Floodway; Secured Area; Extensive deterioration

Bldgs. 1234, 1235

Naval Station

Mayport Co: Duval FL 32228-

Landholding Agency: Navy

Property Number: 77200540023

Status: Excess

Reasons: Floodway; Secured Area; Extensive deterioration

Georgia

Bldg. 340

Savannah IAP

Garden City Co: Chatham GA 31418-

Landholding Agency: Air Force

Property Number: 18200430010

Status: Excess

Reason: Secured Area

Bldg. 5101

Naval Submarine Base

Kings Bay Co: Camden GA 31547-

Landholding Agency: Navy

Property Number: 77200520004

Status: Unutilized

Reasons: Floodway; Secured Area; Extensive deterioration

Guam

Bldg. FH5

Naval Forces

Marianas Co: GU

Landholding Agency: Navy

Property Number: 77200520022

Status: Unutilized

Reason: Extensive deterioration

Bldg. B-32

Naval Forces

Marianas Co: GU

Landholding Agency: Navy

Property Number: 77200520023

Status: Unutilized

Reason: Extensive deterioration.

Bldgs. 76, 77, 79

Naval Forces

Marianas Co: GU

Landholding Agency: Navy

Property Number: 77200520024

Status: Unutilized

Reason: Extensive deterioration

4 Bldgs.

Naval Forces

261, 262, 263, 269

Marianas Co: GU

Landholding Agency: Navy

Property Number: 77200520025

Status: Unutilized

Reason: Extensive deterioration

Bldg. 404NM

Naval Forces

Marianas Co: GU

Landholding Agency: Navy

Property Number: 77200520026

Status: Unutilized

Reason: Extensive deterioration

Bldgs. 635 thru 640

Naval Forces

Marianas Co: GU

Landholding Agency: Navy

Property Number: 77200520027

Status: Unutilized

Reason: Extensive deterioration

Bldg. 1964

Naval Forces

Marianas Co: GU

Landholding Agency: Navy

Property Number: 77200520028

Status: Unutilized

Reason: Extensive deterioration

Bldgs. 2013, 2014

Naval Forces

Marianas Co: GU

Landholding Agency: Navy

Property Number: 77200520029

Status: Unutilized

Reason: Extensive deterioration

Bldgs. 3150, 3268

Naval Forces

Marianas Co: GU

Landholding Agency: Navy

Property Number: 77200520030

Status: Unutilized

Reason: Extensive deterioration

Bldgs. 5409, 5412, 5413

Naval Forces

Marianas Co: GU

Landholding Agency: Navy

Property Number: 77200520031

Status: Unutilized

Reason: Extensive deterioration

Bldg. 5500

Naval Forces

Marianas Co: GU

Landholding Agency: Navy

Property Number: 77200520032

Status: Unutilized

Reason: Extensive deterioration

73 Bldgs.

Naval Computer & Telecommunications Station

Marianas Co: GU

Location: A700-A716, A725, A728, A735, A741-A784, A803-A805, A811-A813, A829-A831

Landholding Agency: Navy

Property Number: 77200520045

Status: Excess

Reasons: Secured Area; Extensive deterioration

Bldg. 24

Naval Ship Repair Facility

Marianas Co: GU

Landholding Agency: Navy

Property Number: 77200520046

Status: Excess

Reasons: Secured Area; Extensive deterioration

Bldgs. 39, 42

Naval Ship Repair Facility

Marianas Co: GU

Landholding Agency: Navy

Property Number: 77200520047

Status: Excess

Reasons: Secured Area; Extensive deterioration

Bldgs. 2006, 2009

Naval Ship Repair Facility

Marianas Co: GU

Landholding Agency: Navy

Property Number: 77200520048

Status: Excess

Reasons: Secured Area; Extensive deterioration

Bldgs. 2014, 2916

Naval Ship Repair Facility

Marianas Co: GU

Landholding Agency: Navy

Property Number: 77200520049

Status: Excess

Reasons: Secured Area; Extensive deterioration

Bldg. 2031

Naval Ship Repair Facility

Marianas Co: GU

Landholding Agency: Navy

Property Number: 77200520050

Status: Excess

Reasons: Secured Area; Extensive deterioration

Bldgs. 2056, 2057

Naval Ship Repair Facility

Marianas Co: GU

Landholding Agency: Navy

Property Number: 77200520051

Status: Excess

Reasons: Secured Area; Extensive deterioration

Bldg. 2064

Naval Ship Repair Facility

Marianas Co: GU

Landholding Agency: Navy

Property Number: 77200520052

Status: Excess

Reasons: Secured Area; Extensive deterioration

Bldgs. 2073, 2077

Naval Ship Repair Facility

Marianas Co: GU

Landholding Agency: Navy

Property Number: 77200520053

Status: Excess

Reasons: Secured Area; Extensive deterioration

Bldg. FH-05

Naval Forces

Marianas Co: GU

Landholding Agency: Navy

Property Number: 77200530002

Status: Unutilized

Reason: Extensive deterioration

Bldgs. 277, 308

Naval Forces Marianas

Santa Rita Co: Apra Harbor GU

Landholding Agency: Navy

Property Number: 77200610028

Status: Excess

Reason: Secured Area

Bldgs. 1686, 1689, 1690

Naval Forces Marianas

Santa Rita Co: Apra Harbor GU

Landholding Agency: Navy

Property Number: 77200610029

Status: Excess

Reason: Secured Area

Bldgs. 1714, 1767, 1768

Naval Forces Marianas

Santa Rita Co: Apra Harbor GU

Landholding Agency: Navy

Property Number: 77200610030

Status: Excess

Reason: Secured Area

Bldgs. 1771, 1772, 1773

Naval Forces Marianas

Santa Rita Co: Apra Harbor GU

Landholding Agency: Navy

Property Number: 77200610031

Status: Excess

Reason: Secured Area

Bldgs. 1791, 1792

Naval Forces Marianas

Santa Rita Co: Apra Harbor GU

Landholding Agency: Navy

Property Number: 77200610032

Status: Excess

Reason: Secured Area

Bldgs. 3000, 3001

Naval Forces Marianas

Santa Rita Co: Apra Harbor GU

Landholding Agency: Navy

Property Number: 77200610033

Status: Excess

Reason: Secured Area

Bldgs. 3002, 3004, 3005

Naval Forces Marianas

Santa Rita Co: Apra Harbor GU

Landholding Agency: Navy

Property Number: 77200610034

Status: Excess

Reason: Secured Area

Bldgs. 3006, 3007

Naval Forces Marianas

Santa Rita Co: Apra Harbor GU

Landholding Agency: Navy

Property Number: 77200610035

Status: Excess

Reason: Secured Area

Steam Plant

Naval Forces Marianas

Santa Rita Co: Apra Harbor GU

Landholding Agency: Navy

Property Number: 77200610036

Status: Excess

Reason: Secured Area

Hawaii

Bldg. 503

Bellows AFS

Bellows AFS HI

Landholding Agency: Air Force

Property Number: 18200330007

Status: Unutilized

Reasons: Secured Area; Extensive deterioration

Bldg. 907

Hickam AFB

Hickam AFB HI

Landholding Agency: Air Force

Property Number: 18200330009

Status: Unutilized

Reasons: Secured Area; Extensive deterioration

Bldg. 954

Hickam AFB

Hickam AFB HI

Landholding Agency: Air Force

Property Number: 18200330010

Status: Unutilized

Reasons: Secured Area; Extensive deterioration

Bldg. 980

Hickam AFB

Hickam AFB HI

Landholding Agency: Air Force

Property Number: 18200330011

Status: Unutilized

Reason: Secured Area

Bldg. 992

Hickam AFB

Hickam AFB HI

Landholding Agency: Air Force

Property Number: 18200330012

Status: Unutilized

Reason: Secured Area

Bldg. 1035

Hickam AFB

Hickam AFB HI

Landholding Agency: Air Force

Property Number: 18200330013

Status: Unutilized

Reason: Secured Area

Bldgs. 1709, 1721

Hickam AFB

Hickam AFB HI

Landholding Agency: Air Force

Property Number: 18200330014

Status: Unutilized

Reasons: Secured Area; Extensive deterioration

Bldg. 2041

Hickam AFB

Hickam AFB HI

Landholding Agency: Air Force

Property Number: 18200330015

Status: Unutilized

Reasons: Secured Area; Extensive deterioration

Bldg. 2044

Hickam AFB

Hickam AFB HI

Landholding Agency: Air Force

Property Number: 18200330016

Status: Unutilized

Reasons: Secured Area; Extensive deterioration

Bldg. 2104

Hickam AFB

Hickam AFB HI

Landholding Agency: Air Force

Property Number: 18200330017

Status: Unutilized

Reason: Secured Area

Bldg. 3018

Hickam AFB

Hickam AFB HI

Landholding Agency: Air Force

Property Number: 18200330018

Status: Unutilized

Reasons: Secured Area; Extensive deterioration

Bldg. 3202

Hickam AFB

Hickam AFB HI

Landholding Agency: Air Force

Property Number: 18200330019

Status: Unutilized

Reasons: Within 2000 ft. of flammable or explosive material; Secured Area; Extensive deterioration

Bldgs. 3338, 3356

Hickam AFB

Hickam AFB HI

Landholding Agency: Air Force

Property Number: 18200330020

Status: Unutilized

Reasons: Secured Area; Extensive deterioration

Bldg. 3432

Hickam AFB

Hickam AFB HI

Landholding Agency: Air Force

Property Number: 18200330021

Status: Unutilized

Reasons: Secured Area; Extensive deterioration

Bldg. 3375

Hickam AFB

Hickam AFB HI

Landholding Agency: Air Force

Property Number: 18200330031

Status: Unutilized

Reason: Secured Area

Bldgs. 743, 1002, 6100

Johnston Atoll Airfield

Honolulu HI

Landholding Agency: Air Force

Property Number: 18200340013

Status: Unutilized

Reasons: Within 2000 ft. of flammable or explosive material; Within airport runway clear zone; Extensive deterioration

Bldgs. 1091, 1092

Hickam AFB

Hickam Co: HI

Landholding Agency: Air Force

Property Number: 18200510011

Status: Unutilized

Reasons: Within airport runway clear zone; Secured Area; Extensive deterioration

Bldg. 1864

Hickam AFB

Hickam Co: HI

Landholding Agency: Air Force

Property Number: 18200510012

Status: Unutilized

Reasons: Secured Area; Extensive deterioration

Bldg. 2074

Hickam AFB

Hickam Co: HI

Landholding Agency: Air Force

Property Number: 18200510013

Status: Unutilized

Reasons: Secured Area; Extensive deterioration

Bldg. 2174

Hickam AFB

Hickam Co: HI

Landholding Agency: Air Force

Property Number: 18200510014

Status: Unutilized

Reasons: Within 2000 ft. of flammable or explosive material; Secured Area

Bldg. 3426

Hickam AFB

Hickam Co: HI

Landholding Agency: Air Force

Property Number: 18200510015

Status: Unutilized

Reasons: Floodway; Secured Area; Extensive deterioration

Bldg. 3431

Hickam AFB

Hickam Co: HI

Landholding Agency: Air Force

Property Number: 18200510016

Status: Unutilized

Reasons: Floodway; Secured Area; Extensive deterioration

Bldgs. 12, 14

Kokee AFB

Kokee Co: HI

Landholding Agency: Air Force

Property Number: 18200510017

Status: Unutilized

Reasons: Secured Area; Extensive deterioration

Bldg. 3389

Hickam AFB

Hickam Co: HI

Landholding Agency: Air Force

Property Number: 18200520002

Status: Unutilized

Reasons: Secured Area; Extensive deterioration

Bldg. 4027

Hickam AFB

Hickam Co: HI

Landholding Agency: Air Force

Property Number: 18200530003

Status: Unutilized

Reasons: Secured Area; Extensive deterioration

Moanalua Community

Church Parsonage

Pearl Harbor Co: Honolulu HI 96860-

Landholding Agency: Navy

Property Number: 77200530034

Status: Unutilized

Reason: Extensive deterioration

Bldg. 158

Naval Station

Pearl Harbor Co: Honolulu HI 96860-

Landholding Agency: Navy

Property Number: 77200540024

Status: Excess

Reason: Extensive deterioration

Bldgs. 453, 454

Naval Station

Pearl Harbor Co: Honolulu HI 96860-

Landholding Agency: Navy

Property Number: 77200540025

Status: Excess

Reason: Extensive deterioration

Bldg. 437

Naval Magazine

West Loch Branch

Ewa Beach Co: Honolulu HI 96706-

Landholding Agency: Navy

Property Number: 77200540026

Status: Unutilized

Reason: Extensive deterioration

Bldgs. 570, 571

Naval Magazine

West Loch Branch

Ewa Beach Co: Honolulu HI 96706-

Landholding Agency: Navy

Property Number: 77200540027

Status: Unutilized

Reason: Extensive deterioration

Bldg. 40

Naval Station

Ford Island

Pearl Harbor Co: Honolulu HI 96860-

Landholding Agency: Navy

Property Number: 77200610037

Status: Unutilized

Reason: Extensive deterioration

Idaho

Bldg. 1328

Mountain Home AFB

Mountain Home Co: Elmore ID 83648-

Landholding Agency: Air Force

Property Number: 18200240003

Status: Excess

Reason: Within 2000 ft. of flammable or explosive material

Illinois

Bldg. 3101

Capital MAP, DCFT

Springfield Co: Sangamon IL 62707-

Landholding Agency: Air Force

Property Number: 18200520003

Status: Excess

Reasons: Within 2000 ft. of flammable or explosive material; Secured Area

Bldg. 42

Naval Station

Great Lakes Co: IL 60088-

Landholding Agency: Navy

Property Number: 77200520055

Status: Excess

Reasons: Secured Area; Extensive deterioration

Bldgs. 25 & 28

Naval Station

Great Lakes Co: IL 60088-

Landholding Agency: Navy

Property Number: 77200530001

Status: Excess

Reason: Extensive deterioration

Bldg. 42

Naval Station

Great Lakes Co: IL 60088-

Landholding Agency: Navy

Property Number: 77200530014

Status: Excess

Reasons: Secured Area; Extensive deterioration

Bldg. 2C

Naval Station

Great Lakes Co: IL 60088-2900

Landholding Agency: Navy

Property Number: 77200540005

Status: Excess

Reason: Secured Area

Indiana

Bldgs. 1871, 2636

Naval Support Activity

Crane Co: Martin IN 47522-

Landholding Agency: Navy

Property Number: 77200530015

Status: Unutilized

Reasons: Within 2000 ft. of flammable or explosive material; Secured Area; Extensive deterioration

Bldg. 1820

Naval Support Activity

Crane Co: Martin IN 47522-

Landholding Agency: Navy

Property Number: 77200540028

Status: Unutilized

Reason: Extensive deterioration

Bldg. 2694

Naval Support Activity

Crane Co: Martin IN 47522-

Landholding Agency: Navy

Property Number: 77200540029

Status: Unutilized

Reason: Extensive deterioration

Louisiana

Bldgs. 006, 007

Naval Air Station

Belle Chasse Co: Plaquemines LA 70143-

Landholding Agency: Air Force

Property Number: 18200610003

Status: Excess

Reasons: Within 2000 ft. of flammable or explosive material; Secured Area

Bldgs. 102, 146, 164

Naval Air Station

Belle Chasse Co: Plaquemines LA 70143-

Landholding Agency: Air Force

Property Number: 18200610004

Status: Excess

Reasons: Within 2000 ft. of flammable or explosive material; Secured Area

Bldg. 379

Naval Air Station

Belle Chasse Co: Plaquemines LA 70143-

Landholding Agency: Air Force

Property Number: 18200610005

Status: Excess

Reasons: Within 2000 ft. of flammable or explosive material; Secured Area

Maine

Bldg. M-6

Portsmouth Naval Shipyard

Kittery Co: York ME 03904-

Landholding Agency: Navy

Property Number: 77200240013

Status: Excess

Reason: Secured Area

Bldg. M-9

Portsmouth Naval Shipyard

Kittery Co: York ME 03904-

Landholding Agency: Navy

Property Number: 77200240014

Status: Excess

Reason: Secured Area

Bldg. M-10

Portsmouth Naval Shipyard

Kittery Co: York ME 0390-4

Landholding Agency: Navy

Property Number: 77200240015

Status: Excess

Reason: Secured Area

Bldg. M-11

Portsmouth Naval Shipyard

Kittery Co: York ME 03904-

Landholding Agency: Navy

Property Number: 77200240016

Status: Excess

Reason: Secured Area

Bldg. M-18

Portsmouth Naval Shipyard

Kittery Co: York ME 03904-

Landholding Agency: Navy

Property Number: 77200240017

Status: Excess

Reason: Secured Area

Bldg. H-29

Portsmouth Naval Shipyard

Kittery Co: York ME 03904-

Landholding Agency: Navy

Property Number: 77200240018

Status: Excess

Reasons: Within 2000 ft. of flammable or explosive material; Secured Area

Bldg. 33

Portsmouth Naval Shipyard

Kittery Co: York ME 03904-

Landholding Agency: Navy

Property Number: 77200240019

Status: Excess

Reason: Secured Area

Bldg. 34

Portsmouth Naval Shipyard

Kittery Co: York ME 03904-

Landholding Agency: Navy

Property Number: 77200240020

Status: Excess

Reason: Secured Area

Bldg. 41

Portsmouth Naval Shipyard

Kittery Co: York ME 03904-

Landholding Agency: Navy

Property Number: 77200240021

Status: Excess

Reason: Secured Area

Bldg. 55

Portsmouth Naval Shipyard

Kittery Co: York ME 03904-

Landholding Agency: Navy

Property Number: 77200240022

Status: Excess

Reason: Secured Area

Bldg. 62/62A

Portsmouth Naval Shipyard

Kittery Co: York ME 03904-

Landholding Agency: Navy

Property Number: 77200240023

Status: Excess

Reason: Secured Area

Bldg. 63

Portsmouth Naval Shipyard

Kittery Co: York ME 03904-

Landholding Agency: Navy

Property Number: 77200240024

Status: Excess

Reason: Secured Area

Bldg. 65

Portsmouth Naval Shipyard

Kittery Co: York ME 03904-

Landholding Agency: Navy

Property Number: 77200240025

Status: Excess

Reason: Secured Area

Bldg. 158

Portsmouth Naval Shipyard

Kittery Co: York ME 03904-

Landholding Agency: Navy

Property Number: 77200240026

Status: Excess

Reasons: Within 2000 ft. of flammable or explosive material; Secured Area

Bldg. 188

Portsmouth Naval Shipyard

Kittery Co: York ME 03904-

Landholding Agency: Navy

Property Number: 77200240027

Status: Excess

Reason: Secured Area

Bldg. 189

Portsmouth Naval Shipyard

Kittery Co: York ME 03904-

Landholding Agency: Navy

Property Number: 77200240028

Status: Excess

Reason: Secured Area

Bldg. 237

Portsmouth Naval Shipyard

Kittery Co: York ME 03904-

Landholding Agency: Navy

Property Number: 77200240029

Status: Excess

Reason: Secured Area

Bldg. 150

Portsmouth Naval Shipyard

Kittery Co: York ME

Landholding Agency: Navy

Property Number: 77200340040

Status: Excess

Reason: Extensive deterioration

Bldg. M-17

Portsmouth Naval Shipyard

York Co: Kittery ME 03904-

Landholding Agency: Navy

Property Number: 77200520057

Status: Excess

Reason: Secured Area

Bldg. 288

Portsmouth Naval Shipyard

York Co: Kittery ME 03904-

Landholding Agency: Navy

Property Number: 77200520058

Status: Excess

Reasons: Within 2000 ft. of flammable or explosive material; Secured Area

Bldgs. 344, 346

Portsmouth Naval Shipyard

York Co: Kittery ME 03904-

Landholding Agency: Navy

Property Number: 77200520059

Status: Excess

Reasons: Within 2000 ft. of flammable or explosive material; Secured Area

Maryland

Bldg. 84NS

Naval Support Activity

Annapolis Co: Anne Arundel MD 21402-

Landholding Agency: Navy

Property Number: 77200610038

Status: Unutilized

Reasons: Within 2000 ft. of flammable or explosive material; Floodway

Mississippi

Bldg. 9

Construction Battalion Center

Gulfport Co: MS

Landholding Agency: Navy

Property Number: 77200610039

Status: Unutilized

Reasons: Secured Area; Extensive deterioration

Bldgs. 22, 27, 41

Construction Battalion Center

Gulfport Co: MS

Landholding Agency: Navy

Property Number: 77200610040

Status: Unutilized

Reasons: Secured Area; Extensive deterioration

Bldgs. 108, 181, 183

Construction Battalion Center

Gulfport Co: MS

Landholding Agency: Navy

Property Number: 77200610041

Status: Unutilized

Reasons: Secured Area; Extensive deterioration

Bldg. 201

Construction Battalion Center

Gulfport Co: MS

Landholding Agency: Navy

Property Number: 77200610042

Status: Unutilized

Reasons: Secured Area; Extensive deterioration

Bldgs. 270, 270A-1, 270A-2

Construction Battalion Center

Gulfport Co: MS

Landholding Agency: Navy

Property Number: 77200610043

Status: Unutilized

Reasons: Secured Area; Extensive deterioration

Bldgs. 375, 420

Construction Battalion Center

Gulfport Co: MS

Landholding A: Navy

Property Number: 77200610044

Status: Unutilized

Reasons: Secured Area; Extensive deterioration

Montana

Bldg. 547

Malmstrom AFB

Malmstrom AFB Co: Cascade MT 59402

Landholding Agency: Air Force

Property Number: 18200240004

Status: Unutilized

Reasons: Within 2000 ft. of flammable or explosive material; Secured Area

Bldg. 1084

Malmstrom AFB

Malmstrom AFB Co: Cascade MT 59402

Landholding Agency: Air Force

Property Number: 18200240006

Status: Unutilized

Reasons: Within 2000 ft. of flammable or explosive material; Secured Area

Bldg. 2025

Malmstrom AFB

Malmstrom AFB Co: Cascade MT 59402

Landholding Agency: Air Force

Property Number: 18200240007

Status: Unutilized

Reason: Secured Area

Bldg. 1700

Malmstrom AFB

Malmstrom AFB Co: Cascade MT 59402-

Landholding Agency: Air Force

Property Number: 18200330022

Status: Unutilized

Reasons: Within 2000 ft. of flammable or explosive material; Secured Area; Extensive deterioration

Bldg. 546

Malmstrom AFB

Cascade Co: MT 59402-

Landholding Agency: Air Force

Property Number: 18200520007

Status: Unutilized

Reasons: Within 2000 ft. of flammable or explosive material; Secured Area

Bldg. 1708

Malmstrom AFB

Cascade Co: MT 59402-

Landholding Agency: Air Force

Property Number: 18200610007

Status: Unutilized

Reasons: Within 2000 ft. of flammable or explosive material; Secured Area

Bldg.

Tiber Dam

Chester Co: Liberty MT 59522-

Landholding Agency: Interior

Property Number: 61200410005

Status: Excess

Reason: Extensive deterioration

Nevada

3 Bldgs.

Nevada Test Site

23-790, 06-CP50, 26-2107

Mercury Co: Nye NV 89023-

Landholding Agency: Navy

Property Number: 77200510025

Status: Excess

Reasons: Contamination; Secured Area

New Jersey

Bldg. 263

Naval Air Engineering Station

Lakehurst Co: Ocean NJ 08733-5000

Landholding Agency: Navy

Property Number: 77200310002

Status: Unutilized

Reason: Extensive deterioration

Bldg. GB-1

Naval Weapons Station

Colts Neck NJ 07722-

Landholding Agency: Navy

Property Number: 77200310013

Status: Unutilized

Reason: Extensive deterioration

Bldg. D-5

Naval Weapons Station

Colts Neck NJ 07722-

Landholding Agency: Navy

Property Number: 77200310014

Status: Unutilized

Reason: Extensive deterioration

Bldgs. 437, 443, 506

Naval Air Engineering Station

Lakehurst Co: Ocean NJ 08733-

Landholding Agency: Navy

Property Number: 77200520056

Status: Unutilized

Reason: Extensive deterioration

Facility No. 2

Naval Weapons Station

Cape May Co: NJ

Landholding Agency: Navy

Property Number: 77200540006

Status: Excess

Reason: Extensive deterioration

Bldgs. 475, 476

Naval Weapons Station

Colts Neck Co: NJ 07722-

Landholding Agency: Navy

Property Number: 77200540030

Status: Unutilized

Reason: Extensive deterioration

Bldgs. C-4, C-58

Naval Weapons Station

Colts Neck Co: NJ 07722-

Landholding Agency: Navy

Property Number: 77200540031

Status: Unutilized

Reason: Extensive deterioration

Bldg. D-1A

Naval Weapons Station

Colts Neck Co: NJ 07722-

Landholding Agency: Navy

Property Number: 77200540032

Status: Unutilized

Reason: Extensive deterioration

Bldgs. D-2, D-3, D-4

Naval Weapons Station

Colts Neck Co: NJ 07722-

Landholding Agency: Navy

Property Number: 77200540033

Status: Unutilized

Reason: Extensive deterioration

Bldg. EA-1

Naval Weapons Station

Colts Neck Co: NJ 07722-

Landholding Agency: Navy

Property Number: 77200540034

Status: Unutilized

Reason: Extensive deterioration

Bldg. HA-1A

Naval Weapons Station

Colts Neck Co: NJ 07722-

Landholding Agency: Navy

Property Number: 77200540035

Status: Unutilized

Reason: Extensive deterioration

Bldgs. S-31, S-219

Naval Weapons Station

Colts Neck Co: NJ 07722-

Landholding Agency: Navy

Property Number: 77200540036

Status: Unutilized

Reason: Extensive deterioration

New Mexico

Bldg. 14170

Cannon AFB

Cannon AFB Co: Curry NM

Landholding Agency: Air Force

Property Number: 18200230010

Status: Unutilized

Reason: Secured Area

Bldg. 14240

Cannon AFB

Cannon AFB NM

Landholding Agency: Air Force

Property Number: 18200230011

Status: Unutilized

Reason: Secured Area

Bldg. 14270

Cannon AFB

Cannon AFB Co: Curry NM

Landholding Agency: Air Force

Property Number: 18200230012

Status: Unutilized

Reason: Secured Area

Bldg. 14330

Cannon AFB

Cannon AFB Co: Curry NM

Landholding Agency: Air Force

Property Number: 18200230013

Status: Unutilized

Reason: Secured Area

Bldg. 14350

Cannon AFB

Cannon AFB Co: Curry NM

Landholding Agency: Air Force

Property Number: 18200230014

Status: Unutilized

Reason: Secured Area

Bldg. 14370

Cannon AFB

Cannon AFB Co: Curry NM

Landholding Agency: Air Force

Property Number: 18200230015

Status: Unutilized

Reason: Secured Area

Bldg. 14390

Cannon AFB

Cannon AFB Co: Curry NM

Landholding Agency: Air Force

Property Number: 18200230016

Status: Unutilized

Reason: Secured Area

Bldg. 524

Holloman AFB

Otero NM 88330-

Landholding Agency: Air Force

Property Number: 18200330024

Status: Unutilized

Reasons: Within 2000 ft. of flammable or explosive material; Secured Area

Bldg. 1076

Holloman AFB

Otero NM 88330-

Landholding Agency: Air Force

Property Number: 18200330025

Status: Unutilized

Reasons: Secured Area; Extensive deterioration

Bldg. 1190

Holloman AFB

Otero NM 88330-

Landholding Agency: Air Force

Property Number: 18200330026

Status: Unutilized

Reasons: Secured Area; Extensive deterioration

Bldg. 1264

Holloman AFB

Otero NM 88330-

Landholding Agency: Air Force

Property Number: 18200330027

Status: Unutilized

Reason: Secured Area

Bldg. 5001

Holloman AFB

Otero NM 88330-

Landholding Agency: Air Force

Property Number: 18200330028

Status: Unutilized

Reason: Secured Area

Bldg. 5012

Holloman AFB

Otero NM 88330-

Landholding Agency: Air Force

Property Number: 18200330029

Status: Unutilized

Reason: Secured Area

Bldg. 615

Kirtland AFB

Kirtland AFB Co: Bernalillo NM 87117-5663

Landholding Agency: Air Force

Property Number: 18200340014

Status: Unutilized

Reasons: Secured Area; Extensive deterioration

Bldg. 736

Kirtland AFB

Kirtland AFB Co: Bernalillo NM 87117-5663

Landholding Agency: Air Force

Property Number: 18200340015

Status: Unutilized

Reason: Secured Area

Bldg. 1013

Kirtland AFB

Kirtland AFB Co: Bernalillo NM 87117-5663

Landholding Agency: Air Force

Property Number: 18200340016

Status: Unutilized

Reason: Secured Area

Bldg. 20419

Kirtland AFB

Kirtland AFB Co: Bernalillo NM 87117-5663

Landholding Agency: Air Force

Property Number: 18200340017

Status: Unutilized

Reason: Secured Area

Bldgs. 29014, 29016, 29017

Kirtland AFB

Kirtland AFB Co: Bernalillo NM 87117-5663

Landholding Agency: Air Force

Property Number: 18200340018

Status: Unutilized

Reasons: Secured Area; Extensive deterioration

Bldg. 30102

Kirtland AFAB

Kirtland AFB Co: Bernalillo NM 87117-5663

Landholding Agency: Air Force

Property Number: 18200340019

Status: Unutilized

Reason: Secured Area

Bldgs. 37532, 37534

Kirtland AFB

Kirtland AFB Co: Bernalillo NM 87117-5663

Landholding Agency: Air Force

Property Number: 18200340020

Status: Unutilized

Reasons: Secured Area; Extensive deterioration

Bldg. 57005

Kirtland AFB

Kirtland AFB Co: Bernalillo NM 87117-5663

Landholding Agency: Air Force

Property Number: 18200340021

Status: Unutilized

Reasons: Secured Area; Extensive deterioration

Bldgs. 57006, 57013

Kirtland AFB

Kirtland AFB Co: Bernalillo NM 87117-5663

Landholding Agency: Air Force

Property Number: 18200340022

Status: Unutilized

Reasons: Secured Area; Extensive deterioration

Bldgs. 10, 11

Holloman AFB

Holloman Co: Otero NM 88330-

Landholding Agency: Air Force

Property Number: 18200410005

Status: Unutilized

Reason: Secured Area

New York

6 UG Missle Silos

Youngstown Test Annex

Porter Co: Niagara NY

Landholding Agency: Air Force

Property Number: 18200220003

Status: Unutilized

Reason: Extensive deterioration

Bldg. 100

Youngstown Test Annex

Porter Co: Niagara NY

Landholding Agency: Air Force

Property Number: 18200220004

Status: Unutilized

Reason: Extensive deterioration

Bldg. 101

Youngstown Test Annex

Porter Co: Niagara NY

Landholding Agency: Air Force

Property Number: 18200220005

Status: Unutilized

Reason: Extensive deterioration

Bldg. 104

Youngstown Test Annex

Porter Co: Niagara NY

Landholding Agency: Air Force

Property Number: 18200220006

Status: Unutilized

Reason: Extensive deterioration

Bldg. 107

Youngstown Test Annex

Porter Co: Niagara NY

Landholding Agency: Air Force

Property Number: 18200220007

Status: Unutilized

Reason: Extensive deterioration

Bldg. 109

Youngstown Test Annex

Porter Co: Niagara NY

Landholding Agency: Air Force

Property Number: 18200220008

Status: Unutilized

Reason: Extensive deterioration

Bldg. 116

Youngstown Test Annex

Porter Co: Niagara NY

Landholding Agency: Air Force

Property Number: 18200220009

Status: Unutilized

Reason: Extensive deterioration

Bldg. 0492

Brookhaven Natl Lab

Upton Co: Suffolk NY 11973-

Landholding Agncy: Energy

Property Number: 41200610001

Status: Excess

Reason: Secured Area

Bldg. 0628

Brookhaven Natl Lab

Upton Co: Suffolk NY 11973-

Landholding Agency: Energy

Property Number: 41200610002

Status: Excess

Reason: Secured Area

Sailors Haven Complex

Fire Island Natl Seashore

Suffolk Co: NY 11772-

Landholding Agency: Interior

Property Number: 61200530001

Status: Unutilized

Reasons: Not accessible by road; Extensive deterioration

North Carolina

Bldg. 216

Tract 42-101

Blowing Rock Co: Watauga NC 28605-

Landholding Agency: Interior

Property Number: 61200540001

Status: Unutilized

Reason: Extensive deterioration

Bldg. 82

Marine Corps Air Station

Cherry Point Co: Craven NC 28533-

Landholding Agency: Navy

Property Number: 77200510009

Status: Underutilized

Reason: Secured Area

Bldg. 4314

Marine Corps Air Station

Cherry Point Co: Craven NC 28533-

Landholding Agency: Navy

Property Number: 77200510010

Status: Underutilized

Reason: Secured Area

Bldg. 124

Marine Corps Air Station

Cherry Point Co: Craven NC 28533-

Landholding Agency: Navy

Property Number: 77200510023

Status: Underutilized

Reason: Secured Area

Ohio

Bldgs. 105, 116, 125

Toledo Express Airport

Lucas Co: OH 43558-

Landholding Agency: Air Force

Property Number: 18200610008

Status: Excess

Reason: Within 2000 ft. of flammable or explosive material

Pennsylvania

Bldg. 904

Naval Support Activity

Mechanicsburg Co: Cumberland PA 17055-

Landholding Agency: Navy

Property Number: 77200430066

Status: Excess

Reason: Extensive deterioration

Bldg. 952

Naval Support Activity

Mechanicsburg Co: Cumberland PA 17055-

Landholding Agency: Navy

Property Number: 77200430067

Status: Excess

Reason: Extensive deterioration

Bldg. 953

Naval Support Activity

Mechanicsburg Co: Cumberland PA 17055-

Landholding Agency: Navy

Property Number: 77200430068

Status: Excess

Reason: Extensive deterioration

South Carolina

Bldg. 277

McEntire Air Natl Station

Eastover Co: Richland SC 29044-

Landholding Agency: Air Force

Property Number: 18200530008

Status: Unutilized

Reasons: Secured Area; Extensive deterioration

Building

N. Charleston Training Annex

N. Charleston Co: SC 29404-

Landholding Agency: Air Force

Property Number: 18200540004

Status: Excess

Reason: Extensive deterioration

Bldgs. B323, B324

McEntire Air Natl Guard

Eastover Co: Richland SC 29044-

Landholding Agency: Air Force

Property Number: 18200540005

Status: Unutilized

Reason: Extensive deterioration

Bldgs. 1000 thru 1021

Naval Weapons Station

Goose Creek Co: Berkeley SC 29445-

Landholding Agency: Navy

Property Number: 77200440018

Status: Unutilized

Reason: Secured Area

Bldg. 102

Marine Corps Recruit Depot

Parris Island Co: Beaufort SC 29905-

Landholding Agency: Navy

Property Number: 77200530017

Status: Unutilized

Reasons: Floodway; Secured Area; Extensive deterioration

South Dakota

Bldg. 6000

Ellsworth AFB

Meade Co: SD 57706-

Landholding Agency: Air Force

Property Number: 18200510021

Status: Underutilized

Reason: Secured Area

Bldgs. 7437, 7513, 7616

Ellsworth AFB

Meade Co: SD 57706-

Landholding Agency: Air Force

Property Number: 18200530009

Status: Unutilized

Reason: Secured Area

Bldg. 7219

Ellsworth AFB

Meade Co: SD 57706-

Landholding Agency: Air Force

Property Number: 18200540006

Status: Unutilized

Reason: Secured Area

Tennessee

17 Buildings

Naval Support Activity

Mid-South

Millington Co: TN 38054-

Location: 892-893, 1704, 1487, 2020, 2035, 2044-2045, 2071, 2074, 2079-2082, 2094, 2096, 2063

Landholding Agency: Navy

Property Number: 77200520012

Status: Excess

Reason: Secured Area

Bldgs. 2, 3, 5

Naval/Marine Corps Rsv Ctr

Knoxville Co: Knox TN 37920-

Landholding Agency: Navy

Property Number: 77200530018

Status: Unutilized

Reasons: Secured Area; Extensive deterioration

Texas

Bldg. 1307

Hensley Field ANG Station

Dallas TX 75211-9820

Landholding Agency: Air Force

Property Number: 18200330030

Status: Excess

Reason: Extensive deterioration

Bldg. B1274

Ellington Field

Houston Co: TX 77034-5586

Landholding Agency: Air Force

Property Number: 18200540007

Status: Unutilized

Reasons: Secured Area; Extensive deterioration

Bldg. 1732

Naval Air Station

Corpus Christi Co: Nueces TX

Landholding Agency: Navy

Property Number: 77200540007

Status: Excess

Reasons: Secured Area; Extensive deterioration

Virginia

Former Averhart Barn

Appalachian Natl Scenic Trail

Huffman Co: Craig VA

Landholding Agency: Interior

Property Number: 61200530002

Status: Excess

Reason: Extensive deterioration

Former Givens House

Appalachian Natl Scenic Trail

Huffman Co: Craig VA

Landholding Agency: Interior

Property Number: 61200530003

Status: Excess

Reason: Extensive deterioration

Former Edmiston Barn

Appalachian Natl Scenic Trail

Rural Retreat Co: Smyth VA

Landholding Agency: Interior

Property Number: 61200530004

Status: Excess

Reason: Extensive deterioration

Bldg. SP-235

Naval Station

Norfolk Co: VA 23511-

Landholding Agency: Navy

Property Number: 77200530019

Status: Excess

Reasons: Within 2000 ft. of flammable or explosive material; Secured Area

Bldg. F11

Naval Air Station

Craney Island Fuel Terminal

Portsmouth Co: VA

Landholding Agency: Navy

Property Number: 77200530020

Status: Excess

Reasons: Floodway; Secured Area

Bldgs. CI33, CI34

Naval Air Station

Craney Island Fuel Terminal

Portsmouth Co: VA

Landholding Agency: Navy

Property Number: 77200530021

Status: Excess

Reasons: Floodway; Secured Area

4 Bldgs.

Naval Air Station

Craney Island Fuel Terminal

Portsmouth Co: VA

Location: CI89, CI90, CI93A, CI95

Landholding Agency: Navy

Property Number: 77200530022

Status: Excess

Reasons: Floodway; Secured Area

Bldgs. CI143, CI148, CI155

Naval Air Station

Craney Island Fuel Terminal

Portsmouth Co: VA

Landholding Agency: Navy

Property Number: 77200530023

Status: Excess

Reasons: Floodway; Secured Area

Bldgs. CI196, CI197, CI198

Naval Air Station

Craney Island Fuel Terminal

Portsmouth Co: VA

Landholding Agency: Navy

Property Number: 77200530024

Status: Excess

Reasons: Floodway; Secured Area

Bldgs. CI453, CI456

Naval Air Station

Craney Island Fuel Terminal

Portsmouth Co: VA

Landholding Agency: Navy

Property Number: 77200530025

Status: Excess

Reasons: Floodway; Secured Area

Bldg. Q-78

Naval Station

Norfolk Co: VA 23511-

Landholding Agency: Navy

Property Number: 77200610045

Status: Excess

Reason: Secured Area

Bldg. SP-86A

Naval Station

Norfolk Co: VA 23511-

Landholding Agency: Navy

Property Number: 77200610046

Status: Excess

Reason: Secured Area

Bldg. SP-89

Naval Station

Norfolk Co: VA 23511-

Landholding Agency: Navy

Property Number: 77200610047

Status: Excess

Reason: Secured Area

Bldg. 1

Headquarters Battalion

Henderson Hall

Arlington Co: VA 22214-

Landholding Agency: Navy

Property Number: 77200610048

Status: Unutilized

Reason: Extensive deterioration

Bldg. 3

Naval Air Station

Oceana

Virginia Beach Co: VA 23460-

Landholding Agency: Navy

Property Number: 77200610049

Status: Excess

Reason: Extensive deterioration

Bldgs. 202, 240

Naval Air Station

Oceana

Virginia Beach Co: VA 23460-

Landholding Agency: Navy

Property Number: 77200610050

Status: Excess

Reason: Extensive deterioration

Bldg. 403

Naval Air Station

Oceana

Virginia Beach Co: VA 23460-

Landholding Agency: Navy

Property Number: 77200610051

Status: Excess

Reason: Extensive deterioration

Bldgs. 501, 504, 519

Naval Air Station

Oceana

Virginia Beach Co: VA 23460-

Landholding Agency: Navy

Property Number: 77200610052

Status: Excess

Reason: Extensive deterioration

Bldgs. 521, 522, 523

Naval Air Station

Oceana

Virginia Beach Co: VA 23460-

Landholding Agency: Navy

Property Number: 77200610053

Status: Excess

Reason: Extensive deterioration

Bldgs. 524, 525, 533

Naval Air Station

Oceana

Virginia Beach Co: VA 23460-

Landholding Agency: Navy

Property Number: 77200610054

Status: Excess

Reason: Extensive deterioration

Bldg. 825

Naval Air Station

Oceana

Virginia Beach Co: VA 23460-

Landholding Agency: Navy

Property Number: 77200610055

Status: Excess

Reason: Extensive deterioration

Bldgs. F19, F19A

Naval Air Station

Oceana

Virginia Beach Co: VA 23460-

Landholding Agency: Navy

Property Number: 77200610056

Status: Excess

Reason: Extensive deterioration

Railroad Tracks

Naval Air Station

Oceana

Virginia Beach Co: VA 23460-

Landholding Agency: Navy

Property Number: 77200610057

Status: Excess

Reason: Extensive deterioration

Washington

Bldg. 529

Puget Sound Naval Shipyard

Bremerton WA 98314-5000

Landholding Agency: Navy

Property Number: 77200040020

Status: Excess

Reason: Secured Area

Bldg. 8

Naval Reserve Center

Spokane Co: WA 99205-

Landholding Agency: Navy

Property Number: 77200430025

Status: Excess

Reasons: Secured Area; Extensive deterioration

Bldgs. 10, 11

Naval Reserve Center

Spokane Co: WA 99205-

Landholding Agency: Navy

Property Number: 77200430026

Status: Excess

Reasons: Secured Area; Extensive deterioration

Bldgs. 2656-2658

Naval Air Station

Lake Hancock

Coupeville Co: Island WA 98239-

Landholding Agency: Navy

Property Number: 77200430027

Status: Unutilized

Reason: Secured Area

Bldgs. 2652, 2705

Naval Air Station

Whidbey

Oak Harbor Co: WA 98277-

Landholding Agency: Navy

Property Number: 77200440010

Status: Unutilized

Reason: Secured Area

Bldgs. 79, 884

NAS Whidbey Island

Seaplane Base

Oak Harbor Co: WA 98277-

Landholding Agency: Navy

Property Number: 77200440011

Status: Unutilized

Reason: Secured Area

Bldg. 121

NAS Whidbey Island

Ault Field

Oak Harbor Co: WA 98277-

Landholding Agency: Navy

Property Number: 77200440012

Status: Unutilized

Reason: Secured Area

Bldg. 419

NAS Whidbey Island

Ault Field

Oak Harbor Co: WA 98277-

Landholding Agency: Navy

Property Number: 77200440013

Status: Unutilized

Reason: Secured Area

Bldgs. 2609, 2610

NAS Whidbey Island

Ault Field

Oak Harbor Co: WA 982770-

Landholding Agency: Navy

Property Number: 77200440014

Status: Unutilized

Reason: Secured Area

Bldg. 2753

NAS Whidbey Island

Ault Field

Oak Harbor Co: WA 98277-

Landholding Agency: Navy

Property Number: 77200440015

Status: Unutilized

Reason: Secured Area

Bldg. 108

Naval Magazine

Port Hadlock Co: Jefferson WA 98339-9723

Landholding Agency: Navy

Property Number: 77200510015

Status: Unutilized

Reasons: Secured Area; Extensive deterioration

Bldg. 351s

Puget Sound Naval Shipyard

Bremerton Co: WA 98314-

Landholding Agency: Navy

Property Number: 77200530026

Status: Unutilized

Reasons: Within 2000 ft. of flammable or explosive material; Secured Area

West Virginia

Buckland Footbridge

New River Gorge

Tract 104-01

Hinton Co: Raleigh WV 25951-

Landholding Agency: Interior

Property Number: 61200520021

Status: Excess

Reason: Extensive deterioration

Helms House/Shed

New River Gorge

Tract 104-05

Hinton Co: Raleigh WV 25951-

Landholding Agency: Interior

Property Number: 61200520022

Status: Excess

Reason: Extensive deterioration

Cochran Pump House

New River Gorge

Tract 104-29

Hinton Co: Raleigh WV 25951-

Landholding Agency: Interior

Property Number: 61200520023

Status: Excess

Reason: Extensive deterioration

Wyoming

Bldg. 360

F. E. Warren AFB

Cheyenne Co: Laramie WY 82005-5000

Landholding Agency: Air Force

Property Number: 18200240013

Status: Unutilized

Reasons: Secured Area; Extensive deterioration

Bldg. 354

F. E. Warren AFB

Laramie Co: WY 82005-

Landholding Agency: Air Force

Property Number: 18200510022

Status: Underutilized

Reason: Secured Area

Land (by State)

California

Trailer Space

Naval Base

San Diego Co: CA

Landholding Agency: Navy

Property Number: 77200520013

Status: Unutilized

Reason: Secured Area

North Carolina

Sites A,B,C,D,E

Marine Corps Base

Camp Lejeune Co: NC

Landholding Agency: Navy

Property Number: 77200430053

Status: Underutilized

Reason: Secured Area

Portion/Training Area

Marine Corps Base

Camp Lejeune Co: NC

Landholding Agency: Navy

Property Number: 77200430065

Status: Underutilized

Reason: Secured Area

Puerto Rico

Site 3

Naval Station Roosevelt Roads

Ceiba PR 00735-

Landholding Agency: Navy

Property Number: 77200320031

Status: Unutilized

Reason: Secured Area

Site 4

Naval Station Roosevelt Roads

Ceiba PR 00735-

Landholding Agency: Navy

Property Number: 77200320032

Status: Unutilized

Reason: Secured Area

Washington

405 sq. ft./Land

Naval Base Kitsap

Bangor Co: WA

Landholding Agency: Navy

Property Number: 77200520060

Status: Unutilized

Reason: Secured Area

[FR Doc. 06-2435 Filed 3-16-06; 8:45 am]

BILLING CODE 4210-67-P